DEPARTMENT OF ENERGY

Improving Performance of Federal Permitting and Review of Infrastructure Projects

AGENCY: Office of Electricity Delivery and Energy Reliability, Department of Energy.

ACTION: Request for Information (RFI).

SUMMARY: The Department of Energy's Office of Electricity Delivery and Energy Reliability, in collaboration with the Member Agencies of the Steering Committee (Member Agencies) created under Executive Order 13604 of March 22, 2012, and pursuant to the June 7, 2013 Transmission Presidential Memorandum, is seeking information on a draft Integrated, Interagency Pre-Application (IIP) Process for significant onshore electric transmission projects requiring Federal Authorization(s).

DATES: Comments must be received on or before September 30, 2013.

ADDRESSES: Comments should be addressed to: Julie A. Smith or Christopher Lawrence, Office of Electricity Delivery and Energy Reliability, Mail Code: OE-20, U.S. Department of Energy, 1000 Independence Avenue SW., Washington, DC 20585. Because of delays in handling conventional mail, it is recommended that documents be transmitted by electronic mail to juliea.smith@hq.doe.gov or christopher.lawrence@hq.doe.gov, or by facsimile to 202-586-7031.

FOR FURTHER INFORMATION CONTACT: Julie A. Smith (Program Office) at 202-586-7668, or by email to juliea.smith@hq.doe.gov; or Christopher Lawrence (Program Office) at 202-586-7680, or by email to christopher.lawrence@hq.doe.gov.

SUPPLEMENTARY INFORMATION: Modernizing our Nation's electric transmission grid requires improvements in how transmission lines are sited, permitted, and reviewed. As part of its efforts to improve the performance of Federal siting, permitting, and review processes for infrastructure development, the Administration created a Rapid Response Team for Transmission (RRTT), a collaborative effort involving nine executive departments and agencies. The RRTT is working to improve the efficiency, effectiveness, and predictability of transmission siting, permitting, and review processes, in part through increasing interagency coordination and transparency. An integrated pre-application process is one potential method to achieve these goals and to increase the predictability of the siting, permitting, and review processes.

This Request for Information seeks public input on a draft IIP Process intended to improve interagency and intergovernmental coordination focused on ensuring that Project Proponents develop and submit accurate and complete information early in the project planning process to facilitate efficient and timely environmental reviews and agency decisions.

Executive Order 13604 of March 22, 2012 (Improving Performance of Federal Permitting and Review of Infrastructure Projects)

On March 22, 2012, the President issued an Executive Order that stated:

[I]t is critical that executive departments and agencies (agencies) take all steps within their authority, consistent with available resources, to execute Federal permitting and review processes with maximum efficiency and effectiveness, ensuring the health, safety, and security of communities and the environment while supporting vital economic growth . . . . They must encourage early collaboration among agencies, project sponsors, and affected stakeholders in order to incorporate and address their interests and minimize delays . . . . They must rely upon early and active consultation with State, local, and tribal governments to avoid conflicts or duplication of effort, resolve concerns, and allow for concurrent rather than sequential reviews . . . Also, these elements must be integrated into project planning processes so that projects are designed appropriately to avoid, to the extent practicable, adverse impacts on public health, security, historic properties and cultural resources, and the environment, and to minimize or mitigate impacts that may occur.

Presidential Memorandum—Modernizing Federal Infrastructure Review and Permitting Regulations, Policies, and Procedures

On May 17, 2013, the President issued a memorandum Modernizing Federal Infrastructure Review and Permitting Regulations, Policies, and Procedures to the heads of Executive Departments and Agencies. That Memorandum stated:

Through the implementation of Executive Order 13604 of March 22, 2012 (Improving Performance of Federal Permitting and Review of Infrastructure Projects), executive departments and agencies (agencies) have achieved better outcomes for communities and the environment and realized substantial time savings in review and permitting by prioritizing the deployment of resources to specific sectors and projects, and by implementing best-management practices.

These best-management practices include: integrating project reviews among agencies with permitting responsibilities; ensuring early coordination with other Federal agencies, as well as with State, local, and tribal governments; strategically engaging with, and conducting outreach to, stakeholders; employing project-planning processes and individual project designs that consider local and regional ecological planning goals; utilizing landscape- and watershed-level mitigation practices; promoting the sharing of scientific and environmental data in open-data formats to minimize redundancy, facilitate informed project planning, and identify data gaps early in the review and permitting process; promoting performance-based permitting and regulatory approaches; expanding the use of general permits where appropriate; improving transparency and accountability through the electronic tracking of review and permitting schedules; and applying best environmental and cultural practices as set forth in existing statutes and policies.

Presidential Memorandum—Transforming our Nation's Electric Grid Through Improved Siting, Permitting, and Review

On June 7, 2013, the President issued a memorandum on Transforming our Nation's Electric Grid Through Improved Siting, Permitting, and Review (Transmission Presidential Memorandum) to the heads of Executive Departments and Agencies. That Memorandum stated:

In furtherance of Executive Order 13604 of March 22, 2012 (Improving Performance of Federal Permitting and Review of Infrastructure Projects), this memorandum builds upon the work of the RRTT to improve the Federal siting, permitting, and review processes for transmission projects. Because a single project may cross multiple governmental jurisdictions over hundreds of miles, robust collaboration among Federal, State, local, and tribal governments must be a critical component of this effort.

Section 4(a) of the Memorandum directs that:

Member Agencies shall develop an integrated, interagency pre-application process for significant onshore electric transmission projects requiring Federal approval. The process shall be designed to: promote predictability in the Federal siting, permitting, and review processes; encourage early engagement, coordination, and collaboration of Federal, State, local, and tribal governments, non-governmental organizations, and the public; increase the use of integrated project planning early in the siting, permitting, and review processes; facilitate early identification of issues that could diminish the likelihood that projects will ultimately be permitted; promote early planning for integrated and strategic mitigation plans; expedite siting, permitting, and review processes through a mutual understanding of the needs of all affected Federal agencies and State, local, and tribal governments; and improve environmental and cultural outcomes. By September 30, 2013, Member Agencies shall provide to the Chief Performance Officer (CPO) and the Chair of the Council on Environmental Quality a plan, including timelines and milestones, for implementing this process.

Section 4(b) further states that in implementing Executive Order 13604, Member Agencies shall:

(i) improve siting, permitting, and review processes for all electric transmission projects, both onshore and offshore, requiring Federal approval. Such improvements shall include: increasing efficiency and interagency coordination; increasing accountability; ensuring an efficient decision-making process within each agency; to the extent possible, unifying and harmonizing processes among agencies; improving consistency and transparency within each agency and among all agencies; improving environmental and cultural outcomes; providing mechanisms for early and frequent public and local community outreach; and enabling innovative mechanisms for mitigation and mitigation at the landscape or watershed scale; and

(ii) facilitate coordination, integration, and harmonization of the siting, permitting, and review processes of Federal, State, local, and tribal governments for transmission projects to reduce the overall regulatory burden while improving environmental and cultural outcomes.

Request for Information (RFI)

The Department of Energy (DOE) seeks public input on the following draft IIP Process prepared in collaboration with the Member Agencies and pursuant to section 4(a) of the June 7, 2013 Transmission Presidential Memorandum and in light of Executive Order 13604. In responding to this RFI, please specify your affiliation or organization.

(1) Please provide feedback on the following draft IIP Process, including any suggested changes or concerns with the proposed process. We are particularly interested in whether the proposed IIP Process efficiently meets the goals below and stated in the Transmission Presidential Memorandum. Please also comment on whether all Federal agencies with applicable permitting authority to the proposed project should be mandatorily required to participate in the IIP Process.

(2) Please provide any comments on whether analogous integrated, interagency pre-application processes should be developed for other permitting of other major infrastructure sector projects covered in section 2(a) of EO 13604. What should be the highest priority sectors that would benefit from this type of process? What key changes would need to be made to adapt the proposed IIP Process to other sectors?

IIP Process

Purpose: The purpose of the proposed IIP Process is to establish a coordinated series of meetings and other actions that would take place prior to a Federal agency accepting a high-voltage transmission line application or taking other action that would trigger Federal review, permitting, and consultation or other requirements, such as those required under the National Environmental Policy Act (NEPA), Section 106 of the National Historic Preservation Act, and Sections 7 and 10 of the Endangered Species Act.

The proposed IIP Process is designed to improve interagency and intergovernmental coordination, to encourage early engagement with stakeholders, and to help ensure Project Proponents develop and submit accurate and complete information early in the project planning process. Providing such information, for example, regarding potential environmental and cultural resource impacts of the proposed project will help the Project Proponent and Federal agencies identify potential requirements and challenges that may affect potential projects. Early identification will help ensure that the Project Proponent can submit Federal Authorization requests that address or avoid these issues, thereby simplifying later coordination and approval processes. The IIP Process does not substitute for compliance with NEPA or other required Federal reviews, but it can ensure that potential issues are identified before a Project Proponent files an application, thereby simplifying later review processes.

Goals: The goals of the IIP Process are to enhance early communication and coordination; enhance public engagement and outreach; develop early iterative feedback on routing options and alternatives; promote predictability; and ultimately reduce the time required to reach a decision to approve or deny a project while also ensuring compliance with environmental laws.

Applicability:

Project Proponents: A developer of a Qualifying Project ¹ may elect to utilize the IIP Process. If a developer of a Qualifying Project elects not to utilize the IIP Process, the developer is encouraged to inform DOE in writing as soon as possible of its decision not to request that its transmission project be considered in the IIP Process.

¹ A Qualifying Project is (1) (a) a non-marine high voltage transmission line (230 kV or above) and its attendant facilities or (b) a regionally or nationally significant non-marine transmission line and its attendant facilities, in which (2) all or part of the proposed transmission line is used for the transmission of electric energy in interstate commerce for sale at wholesale, and (3) all or part of the proposed transmission line (a) crosses jurisdictions administered by more than one Federal Entity or (b) crosses jurisdictions administered by a Federal Entity and is considered for Federal financial assistance from a Federal Entity. Qualifying Projects do not include those for which an application has been submitted to FERC for issuance of a permit for construction or modification of a transmission facility, or where a pre-filing procedure has been initiated, under section 216(b) of the Federal Power Act (16 U.S.C. 824p(b)) (transmission lines within a DOE-designated National Interest Electric Transmission Corridor).

Federal Entities: Under the proposed IIP Process, all identified Federal Entities would be required to participate in the IIP Process for Qualifying Projects for which Project Proponents have submitted and DOE has accepted an Initiation Request. All identified Federal Entities will, at a minimum, be required to attend the Initial Meeting and the Final Meeting.² The list of Federal Entities will be revised as necessary during the IIP Process based on the information provided by the Project Proponent prior to each interim meeting and otherwise publicly available information. DOE will oversee the IIP Process and coordinate the Federal Entities as described below even when it is not responsible for issuing a Federal Authorization.

² A Federal Entity whose permitting authority for construction or modification of electric transmission facilities is limited to facilities for which an application is filed under section 216(b) of the Federal Power Act may participate in any interim meeting at its sole discretion.

Project Proponent Public Outreach Plan: During the initial meeting, the Project Proponent would be strongly encouraged to develop a Public Outreach Plan. The purpose of the Public Outreach Plan is to ensure the Project Proponent actively engages and receives feedback from all stakeholders when the Project Proponent is evaluating various routing options. A Project Proponent's Public Outreach Plan would not supplant the Federal Entity's public participation requirements under NEPA.

Cost Recovery: Federal Entity attendance at IIP Process meetings and other Federal Entity participation in the IIP Process depends on agency resources or the authority to recover costs from Project Proponents Currently, certain agencies may only exercise cost-recovery authorities after an application has been submitted. To the extent allowed by law, some Federal Entities may seek cost recovery from the Project Proponents as soon as possible in the IIP Process.

Implementation of IIP Process: The Member Agencies of the Steering Committee have not determined how to implement the draft IIP Process. Once the Steering Committee receives and considers the public input and approves the full contours of the IIP Process, it will submit on September 30, 2013, an implementation plan that includes timelines and milestones to the Chief Performance Officer and the Chair of the CEQ. The draft IIP Process described in this RFI may complement some Federal Entities' existing pre-application processes, but implementation of the process may require some Federal Entities to revise their existing review and permitting regulations, policies and procedures.

Relationship to NEPA and Other Environmental and Review Processes: None of the IIP Process meetings are part of the NEPA or other environmental and review processes but will inform those processes. Feedback provided by the Federal Entities is preliminary and would not constitute a commitment to approve a Federal Authorization request. Moreover, no agency would or could determine prior to the formal NEPA process that the Project Proponent's proposed or preferred Study Corridors and Routes would constitute a reasonable range of alternatives for NEPA purposes. The documents and communications developed in this process would be preserved by the Federal Entities and would, as appropriate, become part of any subsequent administrative record.

Integrated, Interagency Pre-Application Process

I. Purpose, Goals, Design, and Applicability of the Integrated, Interagency Pre-Application (IIP) Process

A. Purpose: The purpose of the IIP Process is to improve interagency and intergovernmental coordination and to help ensure Project Proponents develop and submit accurate and complete information early in the project planning process to facilitate efficient and timely environmental reviews and agency decisions. Providing such information (e.g., regarding potential environmental and cultural resource impacts of the proposed project) will help the Project Proponent, Federal Entities and relevant Non-Federal Entities identify potential requirements and challenges so that the Project Proponent can submit authorization requests that address or avoid these issues, thereby simplifying later coordination and approval processes.

B. Goals: The goals of the IIP Process are to enhance early communication and coordination; enhance public engagement and outreach; develop early iterative feedback on possible routing options and alternatives; promote predictability; and ultimately reduce the time required to reach a decision to approve or deny a project while also ensuring compliance with environmental laws.

C. Design:

(1) The proposed IIP Process establishes a coordinated series of meetings and other actions, as described in sections II-VII below, that would take place prior to a Federal agency receiving an application or taking other action that would trigger Federal review and consultation requirements, such as those required under the National Environmental Policy Act (NEPA), Section 106 of the National Historic Preservation Act and Sections 7 and 10 of the Endangered Species Act. DOE will oversee the IIP Process and coordinate the Federal Entities as described below even when DOE is not responsible for issuing a Federal Authorization.

(2) Absent an exception, the IIP Process will consist of four meetings: Initial Meeting, Study Corridors Meeting, Routing Meeting, and Final Meeting. The purpose of this series of meetings is to obtain iterative feedback among Federal Entities and invited non-Federal Entities, and for the Project Proponent to refine its application for Federal Authorization while reducing potential siting conflicts that could delay processing of that application. Each meeting will be initiated by the Project Proponent through a meeting request described in sections II-VI below.

D. Lead Coordinating Agency.

(1) DOE shall act as the lead agency for purposes of coordinating the IIP Process among all Federal Entities and Project Proponents.

(2) To the maximum extent practicable and consistent with Federal law, DOE shall coordinate the IIP Process with any non-Federal Entities.

(3) DOE, in exercising its responsibilities, will consult regularly with FERC, as well as electric reliability organizations, and transmission organizations approved by FERC.

(4) To perform the coordination function effectively, DOE requires the active participation of the Project Proponent, including providing requested information in a timely manner.

E. Applicability:

(1) Qualifying Projects: Qualifying Projects include (1) (a) a non-marine high voltage transmission line (230 kV or above) and its attendant facilities or (b) a regionally or nationally significant non-marine transmission line and its attendant facilities, in which (2) all or part of the proposed transmission line is used for the transmission of electric energy in interstate commerce for sale at wholesale, and (3) (a) all or part of the proposed transmission line crosses jurisdictions administered by more than one Federal Entity or (b) crosses jurisdictions administered by a Federal Entity and is considered for Federal financial assistance from a Federal Entity. Qualifying Projects do not include those for which an application has been submitted to FERC for issuance of a permit for construction or modification of a transmission facility, or where a pre-filing procedure has been initiated, under section 216(b) of the Federal Power Act (16 U.S.C. 824p(b)) (transmission lines within a DOE-designated National Interest Electric Transmission Corridor).

(2) Project Proponent Participation:

(a) Developers of Qualifying Projects may elect to utilize the IIP Process. A transmission developer initiates the IIP Process by submitting an Initiation Request as described in Section II.A. below. If a developer of a Qualifying Project elects not to utilize the IIP Process, the developer is encouraged to inform DOE in writing as soon as practicable of its decision not to request that its transmission project be considered in the IIP Process.

(b) Developers of transmission projects that are not 230 kV or above but are nonetheless regionally or nationally significant may request that such a project be deemed a Qualifying Project by filing an Initiation Request with DOE, including an explanation of how its proposed project is regionally or nationally significant. DOE, in reviewing the Initiation Request as described in this Part, will determine whether the transmission project is a Qualifying Project and eligible to participate in the IIP Process.

(c) Upon DOE's determination that a developer's proposed transmission project is a Qualifying Project, the developer will be deemed a Project Proponent under the IIP Process.

(3) Federal Entity Participation:

(a) Identification of Federal Entities: DOE will identify an initial list of Federal Entities to participate in the IIP Process based on the Initiation Request. The list of Federal Entities will be revised as necessary during the IIP Process based on the information provided by the Project Proponent prior to each interim meeting and publicly available information.

(b) Participation:

i. Initial and Final Meetings:

1. All identified Federal Entities must attend the Initial Meeting to accomplish the requirements outlined in Section II.E. of the IIP Process and the Final Meeting to accomplish the requirements outlined in Section VII.D. of the IIP Process; provided, however, that a Federal Entity whose permitting authority for construction or modification of electric transmission facilities is limited to facilities for which an application is filed under section 216(b) of the Federal Power Act may participate in any Initial and/or Final Meeting at its sole discretion.

2. DOE will use information technologies to ensure that Federal Entities unable to attend in person can participate.

ii. Interim Meetings.

1. Federal Entities will be expected to attend all IIP Process meetings. However, based on the information provided by the Project Proponent prior to each interim meeting, as well as otherwise publicly available information, Federal Entities may assess whether their regulatory roles and responsibilities or the potential substantive impact of the proposed project on properties under their jurisdiction warrants their participation in the next interim meeting or other related pre-application activities prior to the next interim meeting.

2. If the Federal Entity determines that its regulatory roles and responsibilities or the potential substantive impact of the proposed project is insufficient to warrant its participation in the next interim meeting, it will notify DOE and other participating Federal Entities of its determination and of the rationale for that determination no later than 15 calendar days prior to the next interim meeting. Notwithstanding the requirements of this section, a Federal Entity whose permitting authority for construction or modification of electric transmission facilities is limited to facilities for which an application is filed under section 216(b) of the Federal Power Act may participate in any interim meeting at its sole discretion.

3. If additional Federal Entities are identified through information provided to DOE by the Project Proponent or through other publicly available information between the Initial and Final Meetings, they will be notified by DOE no later than 30 days prior to the next interim meeting and provided the information that identified them.

4. Unless otherwise determined by DOE (in consultation with the applicable Federal Entity) that a Federal Entity's participation is unnecessary in light of its regulatory roles and responsibilities or the proposed project's potential substantive impact on properties under their jurisdiction, such Federal Entity must attend the next meeting.

(4) Non-Federal Entities: Non-Federal Entities will be invited to attend each of the IIP Process meetings described below.

(5) Cost Recovery: Federal Entity attendance at IIP Process meetings and other Federal Entity participation in the IIP Process depends on agency resources or the authority to recover costs from Project Proponents. Currently, certain Federal Entities may exercise cost-recovery authorities only after an application has been submitted. To the extent allowed by law, some Federal Entities may seek cost recovery from the Project Proponents as soon as possible in the IIP Process.

II. Initial Meeting

The Initial Meeting for the IIP Process will be scheduled as soon as practicable after a Project Proponent has identified the two proposed end points of a project and the proposed locations of any intermediate substations, but before identification of potential Study Corridors or Proposed Routes.

A. If electing to utilize the IIP Process pursuant to section I.E.2, the Project Proponent must submit an Initiation Request to commence the IIP Process to DOE. The Initiation Request must include:

(1) A statement that the Project Proponent requests to use the IIP Process;

(2) Primary contact information for the Project Proponent;

(3) The legal information for the Project Proponent: Legal name; principal place of business; whether the requester is an individual, partnership, corporation, or other entity; the state laws under which the requester is organized or authorized;

(4) A description of the Project Proponent's financial and technical capability to construct, maintain, and decommission the project:

(5) A brief description of the proposed project, including end points, voltage, ownership, justification for the line, intermediate substations if applicable, and, to the extent known, any information about constraints or flexibility with respect to the project;

(6) Project Proponent's proposed schedule, including timeframe for filing necessary Federal and state applications, construction start date, and planned in-service date, if approved;

(7) A list of potentially affected Federal and Non-Federal Entities, as defined below;

(8) Based on existing, relevant, and reasonably available information, provide a description of the known existing major site conditions and areas of concern, including:

(a) Land, airspace. and water uses in the Project Area as defined below;

(b) Any known or potential conflicts with or adverse impacts to the environment or military activities;

(c) Any listed threatened or endangered, candidate, or special status species that may be present in the Project Area or within designated critical habitat in or near the Project Area;

(d) The aquatic habitats, including estuarine and marine environments, and water bodies, including wetlands, in the Project Area;

(e) Existing or proposed project facilities or operations, and the potential for co-location; and

(f) Potential avoidance, minimization, and mitigation options (onsite and offsite) to reduce the potential impacts of the proposed project, including existing Regional Mitigation Strategies, where available, and onsite and offsite management activities, where applicable.

(9) Detailed map(s) and geospatial information that illustrate the Project Area and, within the Project Area:

(a) General land status including the areas of Federal and Non-Federal Entity jurisdiction and any protected areas, including Presidentially or Congressionally-designated areas (e.g., National Parks, National Wildlife Refuges, Wilderness Areas, National Historic and Scenic Trails), administratively-protected areas (e.g., Areas of Critical Environmental Concern, designated roadless areas), Indian trust lands, and military installations, ranges and airspace;

(b) Topographical and resource features that are relevant to the siting of transmission lines, (e.g., airports, waterbodies and wetlands, wildlife resources and the data used to identify these resources);

(c) Known information about protected avian, aquatic, and terrestrial species in the Project Area, as well as other biological information that will be necessary for an environmental review;

(d) Known information about historic properties and other important cultural resources in the Project Area;

(e) Known information about low income communities and minority populations;

(f) Potential constraints caused by impacts on military test, training, and operational missions, including impacts to installations, ranges, water resource projects, and airspace;

(g) If known, potential impacts on the Nation's aviation system, including FAA restricted airspace;

(h) Proposed use of previously disturbed lands, existing corridors, including corridors designated under Section 503 of the Federal Land Policy and Management Act (FLPMA) and Section 368 of the Energy Policy Act of 2005, transportation rights-of-way; feasibility for co-location of facilities; and

(i) Potential avoidance, minimization, and mitigation options (onsite and offsite) to reduce the impact of the proposed project, including existing Regional Mitigation Strategies, where available.

(10) Project Proponent's interests and objectives;

(11) To the extent available, regional transmission planning documents, including status of regional reliability studies and interconnection requests;

(12) Citations for sources, data, and analyses used to develop the Initiation Meeting Request materials.

B. Within 15 calendar days of receiving the Initiation Request, DOE will notify the Project Proponent that:

(1) The Initiation Request meets the screening criteria of this section, including whether the project constitutes a Qualifying Project;

(2) The Initiation Request does not meet the IIP requirements and provide the reasons for that finding and a description of how the Project Proponent may, if applicable, address any deficiencies through supplementation of the information contained in the Initiation Request.

C. At the same time as notifying the Project Proponent that its Initiation Request meets the requirements of this section, DOE will provide the potential Federal Entities with the Initiation Request.

D. DOE, in consultation with the identified Federal Entities, will convene the Initial Meeting with the Project Proponent and all identified Federal Entities as soon as practicable and no later than 45 calendar days after notifying the Project Proponent and potential Federal Entities that the Initiation Request meets the requirements of this section. The Initial Meeting will be convened in the region where the project is located. Federal Entities will have at least 15 days to review the Initiation Request prior to the meeting. All identified Federal Entities must attend the Initial Meeting. DOE also will invite all identified Non-Federal Entities to attend the Initial Meeting and will simultaneously provide them with the Initiation Request. DOE will use information technologies to ensure that Federal Entities and invited Non-Federal Entities unable to attend in person can participate in the Initial Meeting.

E. During the Initial Meeting, the following will occur:

(1) DOE will discuss the IIP Process with the Project Proponent, including the requirements for a Public Outreach Plan and any requirements of cost recovery where applicable.

(2) The Project Proponent will describe the proposed project and the contents of its Initiation Request.

(3) The Federal Entities will, to the extent possible and based on the information provided by the Project Proponent and publicly available information, preliminarily identify the following:

(a) Potential environmental siting constraints and resources of concern and an early assessment for the potential for conflict;

(b) Potential cultural resources and historic properties of concern, particularly those that occur at a landscape scale that should be avoided during project siting;

(c) Potential impacts on low income communities and minority populations;

(d) Potential constraints caused by impacts on military test, training, and operational missions, including impacts to installations, ranges, and airspace;

(e) Potential impacts on the Nation's aviation system;

(f) Potential areas that present challenges or conflicts that could increase the time needed for the Federal government to evaluate the application if the route is sited through such areas (e.g., right-of-way avoidance areas identified through agency land management plans, National Historic Landmarks, traditional religious and cultural properties significant to Indian tribe(s), National Scenic and Historic Trails, National Wildlife Refuges, units of the National Park System, marine sanctuaries); and

(g) Potential opportunities to site routes through designated corridors, previously disturbed lands, and/or lands with existing infrastructure as a means of potentially reducing the time needed for the Federal government to evaluate the application for a proposed route(s) through such areas (e.g., colocation with existing infrastructure or previously disturbed lands, energy corridors designated by the Department of the Interior (DOI) or the Department of Agriculture (USDA) under Section 368 of the Energy Policy Act of 2005; an existing right-of-way; and/or a utility corridor identified in a land management plan).

(h) Authorized uses that may conflict with the proposal;

(i) Affected Federal, State, and local land use plans;

(j) Potential for public controversy; and

(k) Potential avoidance, minimization, and mitigation options (onsite and offsite) to reduce the potential impact of the proposed project, including existing Regional Mitigation Strategies, where available.

(4) The Federal Entities will also describe:

(a) Statutory and regulatory authorities, roles, and responsibilities;

(b) The Project Proponent's role and responsibilities to support compliance with applicable statutory and regulatory authorities; and

(c) Types of studies likely to be needed to complete the project, including studies needed to comply with laws and policies for cultural resource and tribal consultation and endangered, threatened or otherwise protected species, visual resources, and aquatic and terrestrial resources.

(5) Based on their review of the available information, the Federal Entities will do the following:

(a) Comment on the proposed boundaries of the Project Area;

(b) Request additional information from the Project Proponent, to the extent necessary; and

(c) Provide additional information, including data sources, to the Project Proponent that could assist in identifying risks or benefits of siting the project in alternative locations within the Project Area.

(6) Any Non-Federal Entity participating in the Initial Meeting will be invited to:

(a) Comment on the proposed boundaries of the Project Area;

(b) Request additional information from the Project Proponent, to the extent necessary; and

(c) Provide additional information, including data sources or relevant studies, to the Project Proponent that could assist in identifying risks or benefits of siting the project in alternative locations within the Project Area.

(7) All identified Federal and non-Federal Entities will provide contact information to the Project Proponent;

(8) The Project Proponent will provide points of contact to DOE and to the Federal and Non-Federal Entities;

(9) DOE will document points of contact for each Federal Entity and for each Non-Federal Entity and the list of issues or potential concerns identified in the Initial Meeting.

(10) DOE will advise the Project Proponent that it will be required to ensure that stakeholders have access to accurate and timely information on the proposed project and permit application process. The access to this information is meant to solicit meaningful stakeholder input. Following the Initial Meeting, the Project Proponent will be required, as provided below in Section IV, to submit a Public Outreach Plan, to coordinate public interface and communications, and to identify at least one person primarily responsible for public outreach.

(11) DOE will advise the Project Proponent that it may be required to fund the development and maintenance of one or more Web sites to share project information.

(12) If known, DOE will inform the Project Proponent which agency/ies has been identified as the NEPA Lead Agency and the lead agency for Section 106 consultation.

(13) DOE will discuss potential contractor assistance for preparation of the NEPA document and other material relevant to Federal Authorizations.

(14) DOE will inform the Project Proponent that the IIP meeting schedule allows flexibility as to the number of meetings. As described below, the Study Corridor Meeting, Routing Meeting, and Final Meeting establish goals for refining the Project Proponent's proposal to be filed later in an application to a Federal Entity. Depending on the complexity of the Qualifying Project, as well as the extent of conflicts identified by Federal Entities and others, a proposal could meet the meeting goals described in Section V and VI below with fewer meetings, thus reducing time necessary to satisfy the purpose of the IIP Process.

F. Based on the information provided by the Project Proponent and Federal and Non-Federal Entities prior to and during the Initial Meeting, the Federal Entities, in consultation with the Project Proponent, will establish a preliminary non-binding schedule for the review of the Project Proponent's IIP filings, including targets for additional meetings (as needed) addressing study of corridor and routing options for the project. Based on the facts of a particular project, the Federal Entities may agree to modify the IIP Process to accommodate the needs of the particular proposed project.

G. Any preliminary feedback provided by the Federal Entities at the Initial Meeting, or provided to the Project Proponent in writing within 30 calendar days of the Initial Meeting, is intended to identify potential issues and/or resource conflicts. The Federal Entities reserve the right to provide additional comments as needed. The preliminary feedback and any later feedback do not constitute an agency decision or commitment by those Federal entities to approve any authorization request.

III. Quarterly Reporting

Upon completion of the Initial Meeting, the Project Proponent is required to submit quarterly status updates to DOE via email until the completion of the Final Meeting. DOE will distribute quarterly updates to Federal and Non-Federal Entities within 10 days after receipt from the Project Proponent.

IV. Public Outreach and Tribal Coordination Plans

A. Public Outreach Plan: Within 60 days after the Initial Meeting, unless otherwise agreed upon, the Project Proponent will be required to submit a draft Public Outreach Plan to describe how it will coordinate public interface, communications, and involvement during the IIP Process. The plan must identify at least one person primarily responsible for public outreach efforts. DOE, in consultation with the Federal Entities, will coordinate and provide DOE and the Federal Entities' feedback to the Project Proponent within 60 days.

(1) The Public Outreach Plan must accomplish the following:

(a) Identify specific tools and actions to facilitate stakeholder communications and public information, including an up-to-date Company Project Web site and a readily accessible, easily identifiable, single point of contact within the company;

(b) Identify how and when meetings on the location of potential Study Corridors or potential Routes will be publicized prior to the submission of the application(s) for Federal Authorization, as well as where those meetings will be held and how many there will be;

(c) Identify known stakeholders and how stakeholders are identified;

(d) Describe the type of location (for example, libraries, community reading rooms, or city halls) in each county where the Project Proponent will provide publicly available copies of relevant documents and materials related to the proposed project;

(e) Describe the evaluation criteria being used by the Project Proponent to identify and develop the potential Study Corridors or potential Routes prior to submission of the application(s) that are presented to stakeholders during project planning outreach efforts as described in the Public Outreach Plan;

(f) Explain how the Project Proponent intends to respond to requests for information from the public;

(g) Explain how the Project Proponent intends to record public requests and Project Proponent responses to the public;

(h) Describe how and when notification of owners of property located within the proposed Project Area will occur; and

(i) Identify how and when information will be provided to and input will be received from Non-Federal Entities identified at the Initial Meeting.

(2) A Proponent's Public Outreach Plan will not supplant the Federal agency's public participation requirements under NEPA.

B. Tribal Coordination Plan: Within 60 days after the Initial Meeting, the Project Proponent will be required to submit a draft Tribal Coordination Plan describing how the Project Proponent will coordinate tribal interface and communication during the IIP. The role of the Project Proponent at this stage is to gather initial information to be included in the Federal agency tribal consultation plan and to ascertain the views of the tribe(s) on the effects to the environment and historic properties, including properties of religious and cultural significance in the area of the potential study corridor or route. The Project Proponent will be required to identify its point of contact responsible for tribal outreach efforts. DOE, in consultation with the Federal Entities, will coordinate and provide DOE and the Federal Entities' feedback to the Project Proponent within 60 days.

(1) The Tribal Coordination Plan must accomplish the following:

(a) Identify specific tools and actions to facilitate tribal involvement, communications and the sharing of information, including an up-to-date Company Project Web site and a readily accessible, easily identifiable, single point of contact within the Project Proponent;

(b) Explain how the Project Proponent will coordinate with tribes to gather baseline information about their views on the environment and historic properties and potential impact of the project.

(c) Identify how and when information on the IIP meetings on the location of potential Study Corridors or Routes will be provided to the Tribes prior to the submission of the application, as well as where those meetings will be held and how many there will be;

(d) Identify known tribes with interest in the project area and how tribes were identified;

(e) Describe how project information will be transmitted to tribes;

(f) Describe what project information will be provided to the tribes, including but not limited to a listing of all Federal Authorizations the Project Proponent expects to seek;

(g) Gather information from tribal representatives regarding the potential presence of places of religious and cultural significance to their tribes; the likely impacts of the proposed project on such places; and the potential to mitigate such effects, if any;

(h) Explain how the Project Proponent intends to respond to requests for information from tribes;

(i) Explain how the Project Proponent intends to record tribal communications and Project Proponent responses to the tribe;

(j) Identify any tribe(s) that were contacted by the Project Proponent but declined to discuss places of religious and cultural significance to their tribes or potential issues regarding the proposed project with the Project Proponent;

(k) Explain how the Project Proponent has shared information on the development of the Tribal Coordination Plan with tribes and to what extent the tribes provided input on the Plan during its development;

(l) Determine in consultation with the tribe(s) how sensitive tribal information will be protected from inappropriate disclosure or retention.

(2) A Proponent's Tribal Coordination Plan will not supplant the Federal agency's government-to-government consultation obligations under Federal law.

V. Study Corridors Meeting

After the Initial Meeting, the Project Proponent will develop potential Study Corridors for the project. After the Project Proponent has identified the proposed Study Corridors and has received feedback from DOE and the Federal Entities on the Public Outreach Plan, the Project Proponent will submit a Study Corridor Meeting Request to DOE. DOE will distribute the Study Corridors Meeting Request to the previously identified Federal Entities within 5 calendar days of receipt of the Study Corridor Meeting Request.

A. The Study Corridor Meeting Request must include:

(1) A description of the factors (screening criteria) identifying the potential Study Corridors;

(2) A map of the Project Area showing the location of the potential Study Corridors.

(3) High-resolution maps of the potential Study Corridors with more detailed information than the Project Proponent was able to provide in the Initial Meeting, as described in section II.A., that precisely show existing rights of way, utility and transportation corridors, environmental resources, public land ownership, waterbodies, wetlands, residences, important farmland, rangeland, and forestland, and historic properties, and military installation, ranges, and managed airspace, and any other information required by the Federal Entities, if designated.

(4) Building on the information provided in the Initiation Request and based on existing, relevant, and reasonably available information, provide aAn updated description of the following information, within the potential Study Corridors:

(a) Information on the existing environment and known cultural resources and/or historic properties;

(b) Existing data or studies relevant to the existing environment and cultural resources and/or historic properties, to the extent already collected;

(c) Any known or potential conflicts or adverse impacts to the environment, or military activities;

(d) Any listed threatened or endangered, candidate, or special status species that may be present in the potential Study Corridors or within designated critical habitat that may be present in in the potential Study Corridors;

(e) The aquatic habitats, including estuarine environments, in the potential Study Corridors;

(f) Any existing or proposed project facilities or operations, and the potential for co-location; and

(g) Potential avoidance, minimization, and mitigation options (onsite and offsite) to reduce the impact of the proposed project, including existing Regional Mitigation Strategies, where available, and onsite and offsite management activities, where applicable; and

(h) Any update on the status of implementation of the Public Outreach Plan.

(5) If the potential Study Corridors run through areas previously identified as having siting constraints or as areas of concern raised in the Initial Meeting or provided in written feedback to the Project Proponent following the Initial Meeting, a description of why avoiding such areas is not feasible in meeting the goals for the project and proposed mitigation for impacts to affected resources.

(6) Any updates to the previously identified list of the potentially affected Federal and Non-Federal Entities.

(7) Citations identifying sources, data, and analyses used to develop the Study Corridors Meeting Request materials, and any additional information needed.

B. Simultaneously with submitting the Study Corridors Meeting Request, the Project Proponent will post that request, along with its accompanying information, on the Company Project Web site.

C. Within thirty (30) calendar days of receiving a Study Corridors Meeting Request and distributing it to the Federal Entities, DOE, in consultation with the Federal Entities, will determine if the Study Corridors Meeting Request meets the requirements of this section and will notify the Project Proponent.

D. If the Study Corridors Meeting Request does not meet the requirements of this section, DOE will provide an explanation for that finding to the Project Proponent and describe how the Project Proponent may address any deficiencies through supplementation of the information contained in the Study Corridors Meeting Request.

E. DOE will convene the Study Corridors Meeting in the region where the project is located with the Project Proponent and all previously identified Federal Entities within thirty (30) calendar days after notifying the Project Proponent and all identified Federal Entities that the Study Corridors Meeting Request meets the requirements of this section. DOE will further invite all identified Non-Federal Entities to attend and will simultaneously provide them with the Study Corridors Meeting Request. DOE will use information technologies to ensure participants unable to attend in person can participate in the Study Corridors Meeting.

F. At the Study Corridors Meeting, the following will occur:

(1) The Federal Entities will, to the extent known and based on the information provided by the Project Proponent and publicly available information, preliminarily identify the following and any other reasonable criteria for eliminating potential Study Corridors from further consideration:

(a) Potential environmental siting constraints and resources of concern;

(b) Potential cultural resources and historic properties of concern;

(c) Potential areas that present challenges or conflicts that could increase the time needed for the Federal government to evaluate the application for a proposed route(s) through such areas (e.g., right-of-way avoidance areas identified through agency land management plans, National Historic Landmarks, traditional religious and cultural properties significant to Indian tribe(s), National Scenic and Historic Trails, National Wildlife Refuges, units of the National Park System, marine sanctuaries).

(d) Potential opportunities to site routes through designated corridors, previously disturbed lands, and/or lands with existing infrastructure as a means of potentially reducing the time needed for the Federal government to evaluate the application if the route is sited through such areas (e.g., colocation with existing infrastructure or previously disturbed lands, energy corridors designated by the DOI or USDA under Section 368 of the Energy Policy Act of 2005; an existing right-of-way; a utility corridor identified in a land management plan).

(e) Potential constraints caused by impacts on military test, training, and operational missions, including impacts to installations, ranges, and airspace.

(f) Potential constraints caused by impacts on the Nation's aviation system.

(g) Based on available information provided by the Project Proponent, biological (including threatened and endangered species and aquatic resources), cultural, and other surveys and studies that may be required for the potential Study Corridors.

(2) Such information and feedback to the Project Proponent does not constitute a commitment by Federal Entities to approve or deny any Federal Authorization request. Moreover, no agency would or could determine prior to the formal NEPA process that the Project Proponent's proposed or preferred Study Corridors and Routes presented or discussed during the IIP Process would constitute a reasonable range of alternatives for NEPA purposes.

(3) Participating Non-Federal Entities may also identify risks and benefits of siting the proposed project within the potential Study (Corridors.

(4) The Project Proponent must provide a list of all affected landowners and other stakeholders that have already been contacted, or have contacted the Project Proponent, about the project.

VI. Routing Meetings

Once the Project Proponent has developed potential Routes within the Study Corridors, it will submit a Routing Meeting Request to DOE. DOE will distribute the Routing Meeting Request to identified Federal Entities within 5 calendar days of receipt. Except for the items set forth below, the process used for Routing Meetings will be the same process set forth above for the Study Corridors Meetings. In its Routing Meeting Request, the Project Proponent will provide more detailed data for each potential route than was submitted for the Study Corridors Meeting.

A. For example, for the potential proposed Routes identified within the Study Corridors, the Routing Meeting Requests should include:

(1) A description of the factors (screening criteria) in identifying the potential Routes;

(2) A map and description of the following: Residences, schools, daycare centers, hospitals, and airports; historic properties; areas identified for cultural significance ³; areas of endangered and threatened species and designated critical habitat; land use; zoning by type; waters of the United States, floodplains and wetlands; Federal projects, including but not limited to dams, reservoirs, levees, other flood risk reduction projects, navigation channels, and environmental restoration projects; and, sections, townships, ranges, and municipal boundaries; and any identified low-income or minority populations; and

³ This may include traditional cultural properties, traditional cultural landscapes, and other properties of religious and cultural significance to Indian tribes to the extent such information is known and is not protected against public disclosure in accordance with Section 304 of the National Historic Preservation Act, 16 U.S.C. 470w-3.

(3) A description of the actions completed on the Public Outreach Plan to date.

B. Within 60 calendar days of providing the Routing Meeting Request to the Federal Entities, DOE, in consultation with the Federal Entities, will determine if the Routing Meeting Request meets the requirements of this section.

C. DOE will convene the Routing Meeting in the region where the project is located with the Project Proponent and all previously identified Federal Entities 30 days after notifying the Project Proponent and all previously identified Federal Entities that the Routing Meeting Request meets the requirements of this section.

D. To the extent possible, the feedback mechanism from the Federal and Non-Federal Entities and opportunity for further comment on public participation will be the same as for the Study Corridors Meetings.

E. In addition to the information provided in the Study Corridors Meeting, Federal and Non-Federal Entities will also identify during the Routing Meeting the initial requirements for site surveys for historic properties and cultural resources, endangered, threatened or otherwise protected species, and aquatic resources for potential proposed Routes within the Study Corridors, and if applicable, Regional Mitigation Strategies.

VII. Final Meeting

After the Project Proponent has identified the potential proposed Route(s) within potential Study Corridor(s) that it intends to include in its Federal application(s), the Project Proponent will submit the Final Meeting Request to DOE. DOE will distribute the Final Meeting Request to previously identified Federal Entities within 5 calendar days of receipt of the Final Meeting Request.

A. The Final Meeting Request shall include:

(1) Maps of the potential proposed Route(s) within potential Study Corridor(s), including the line, substations and other infrastructure, which include at least as much detail as required for the Routing Meetings described above; and if available, GIS shapefiles or line data;

(2) If the proposed Routes are sited through any Geographic Areas of Concern identified in prior meetings, a preliminary plan for addressing those concerns;

(3) Summaries of all Project Proponent-sponsored project-specific surveys (biological, including aquatic resources, and visual and cultural surveys) for the proposed Routes along with the results of database and record reviews.

(4) If known, a schedule of completion for upcoming field resource surveys;

(5) A conceptual plan for potential mitigation options and measures, including avoidance, minimization, and mitigation (offsite and onsite), as well as Regional Mitigation Strategies, where available.

(6) Description of how the Project Proponent complied with its Public Outreach Plan;

(7) An estimated time of filing its request(s) for Federal Authorization(s).

B. Within 60 calendar days of receiving a Final Meeting Request, DOE, in consultation with the Federal Entities, will jointly select the NEPA Lead Agency, if not already identified, as set forth in section VII below, select the lead agency for consultation under Section 106 of NHPA; and determine whether the Final Meeting Request meets the requirements of this section.

C. Within 60 calendar days of making a determination that the Final Meeting Request meets the requirements of this section, DOE will convene the Final Meeting with the Project Proponent and all Federal Entities. Non-Federal Entities will also be invited to attend. DOE will use information technologies to ensure participants unable to attend in person can participate in the Final Meeting.

D. During the Final Meeting, the following will occur:

(1) Led by the NEPA Lead Agency, all Federal Entities will:

(a) Based on information provided by the Project Proponent to date, discuss identified key issues of concern to the agencies and public and potential mitigation measures anticipated for the project;

(b) Discuss statutory and regulatory standards that must be met to make decisions for applicable Federal Authorizations;

(c) Describe estimated time to make decisions for such Federal Authorizations and the anticipated cost (e.g., processing and monitoring fees and rent);

(d) Describe their expectations for written pre-application materials, if applicable; and

(e) Describe their expectations for a complete application.

(2) Any Non-Federal Entities are also encouraged to:

(a) Identify key issues of concern;

(b) Discuss statutory and regulatory standards that must be met to make decisions for applicable authorizations;

(c) Describe estimated time and complexity to make decisions for such authorizations and the anticipated cost (processing and monitoring fees and rent);

(d) Describe their expectations for written pre-application materials, if applicable; and

(e) Describe their expectations for a complete application.

(3) The Federal Entities will:

(a) If not completed prior to this point, specify the requirements for biological, including aquatic resources, and historic property and cultural resource surveys/studies for the proposed Route(s) within potential Study Corridor(s).

(b) Discuss available resources, including best practices for types of project, agency guidance, and existing Regional Mitigation Strategies, if applicable, or other information; and

(c) Identify the process that will be used for defining the mitigation measures, as well as what mitigation measures would be expected for various routes; and identify among themselves any possible overlap of mitigation measures.

(4) The Non-Federal Entities are also encouraged to:

(a) If not completed prior to this point, specify the requirements for biological, including aquatic resources, and historic property and cultural resource surveys/studies for the Route(s) within potential Study Corridor(s).

(b) Discuss available resources, including best practices for types of project, agency guidance, and existing Regional Mitigation Strategies, if applicable, or other information; and

(c) Identify the process that may be used for defining the mitigation measures, as well as what mitigation measures would be expected for various potential Route(s) within potential Study Corridor(s); and identify among themselves any possible overlap of mitigation measures.

(5) Federal and Non-Federal Entities may also identify among themselves any possible opportunities to synchronize or combine the review processes for their respective permits and approvals.

(6) The NEPA Lead Agency will:

(a) Describe the process of determining whether a third-party contractor will be selected for the NEPA review, if not completed prior to this point;

(b) Discuss possible locations for the NEPA scoping meetings;

(c) Discuss potential mitigation options and measures, and the process used for defining those measures, at a level of detail that is appropriate given the information available to the Project Proponent and the Federal and Non-Federal Entities at the time of the Final Meeting.

(d) Discuss the Federal Entities' plans to meet tribal consultation requirements of Executive Order 13084 and compliance with the NHPA.

(7) Nothing in this subsection requires agencies to commit to adopting particular mitigation measures or to limiting the mitigation measures that the NEPA Lead Agency and NEPA Cooperating Agencies might consider at later stages of NEPA review and in response to public comment.

(8) The Final Meeting will result in a description by Federal Entities of the remaining key issues of concern and areas that represent potential high, medium, or low resource conflicts that could impact the time for which it takes Federal agencies to process applications for a proposed facility within the identified Study Corridors. That description will not constitute a commitment by any agency to approve or deny any authorization request nor will it guarantee a particular outcome in any individual case. Moreover, no agency would or could determine prior to the formal NEPA process that the Project Proponent's proposed or preferred Study Corridors and Routes presented or discussed during the IIP Process would constitute a reasonable range of alternatives for NEPA purposes. The Non-Federal Entities will also be encouraged to provide such a description of key issues of concern and areas of conflict.

E. The NEPA Lead Agency will also describe the next set of milestones, including the creation of an interagency review schedule for the project once all written application materials have been deemed adequate, the issuance of a Notice of Intent to Prepare an Environmental Assessment or Environmental Impact Statement, and subsequent Scoping Meetings.

VIII. Selection of NEPA Lead Agency

A. DOE, in consultation with the Federal Entities, will coordinate the selection of a NEPA Lead Agency responsible for compiling a unified environmental review document for qualifying projects. Determination of the lead agency for preparing NEPA documents shall be in compliance with applicable law and with regulations issued by CEQ at 40 CFR part 1500 et seq.

(1) For Qualifying Projects that cross DOI-administered lands (including trust or restricted Indian lands) or USDA-administered lands, DOI and USDA will consult and jointly determine within 30 calendar days of receiving a Final Meeting Request whether a sufficient land management interest exists to support their assumption of the lead agency role; and, if so, which of the two agencies should assume that role.

B. DOI and USDA will notify DOE of their determination in writing within 10 calendar days of making the determination.

C. Unless DOE in writing notifies DOI and USDA of its objection to such determination within two calendar days of the DOI/USDA notification, such determination is deemed accepted and final. In deciding whether to object to such determination, DOE will consider the CEQ regulations pertaining to selection of the Lead Agency, including 40 CFR 1501.5(c).

D. When the NEPA Lead Agency is not established pursuant to paragraphs B-D of this section, the Federal Entities that will likely constitute the cooperating agencies for the unified environmental review document will consult and jointly determine a NEPA Lead Agency within 45 calendar days of receiving a Final Meeting Request. No determination of an agency as a NEPA Lead Agency under this rule shall be made absent that agency's consent.

E. The Federal Entities will notify DOE of their determination in writing within 10 days of making the determination. Unless DOE in writing notifies the Federal Entities of its objection within two calendar days of receiving this notification, such determination is deemed accepted and final. If DOE objects to such determination, CEQ will determine the NEPA Lead Agency according to 40 CFR 1501.5(e)-(f).

IX. Consolidated Administrative Record

A. Federal Entities are expected to include DOE on any communications with the Project Proponent, other Federal Entities, and Non-Federal Entities related to the IIP Process for a particular project.

B. DOE will maintain all information, e.g., documents and communications, it disseminates or receives from the Project Proponent and Federal and Non-Federal Entities relating to specific IIP Processes as part of the administrative record for a future, potential transmission application. Before disseminating information specific to one agency's review, DOE must receive approval from that agency in accordance with that agency's FOIA requirements.

C. At each meeting required in the IIP Process, DOE will record the key issues identified and, within 15 calendar days of the meeting, will send a list of such issues to the Federal and Non-Federal Entities that attended the meeting.

D. Within 45 calendar days of receiving the list, the Federal and Non-Federal Entities that attended the meeting will revise the list, if necessary, and send the list to DOE.

E. Within 30 calendar days of receiving the list in the above subsection, DOE will convey the list to the Project Proponent and all Federal and Non-Federal Entities that participated in the meeting.

F. DOE will document the list of identified issues, if any, for the consolidated administrative record.

G. Each Federal Entity is encouraged to maintain as part of a future, potential transmission application for which it may have a Federal Authorization the documents and communications developed in this process, which would, as appropriate, become part of its subsequent administrative record for that Federal Authorization.

X. Relationship to the NEPA Process and Other Environmental and Review Processes

None of the IIP Process meetings are part of the NEPA or other environmental and review processes but will inform those processes. Feedback provided by the Federal agencies is preliminary and would not constitute a commitment to grant a Federal Authorization. Moreover, no agency would or could determine prior to the formal NEPA process that the Project Proponent's proposed or preferred Study Corridors and Routes presented or discussed during the IIP Process would constitute a reasonable range of alternatives for NEPA purposes. As set forth in Section IX, the documents and communications developed in this process would be preserved by the Federal agencies and would, as appropriate, become part of any subsequent administrative record.

Glossary

Federal Authorization means any authorization required under Federal law to site a transmission facility, including permits, special use authorizations, certifications, opinions, or other approvals. This term includes authorizations issued by Federal and Non-Federal Entities that are responsible for issuing decisions that are called for under Federal law for a transmission facility.

Federal Entities means any Federal agencies with relevant expertise or interests that may have jurisdiction pertinent to the project, are responsible for conducting permitting and environmental reviews of the proposed project or attendant facilities, or have special expertise with respect to environmental and other issues pertinent to or that are potentially affected by the project or its attendant facilities or providing funding for the same. Federal Entities include those with either permitting or non-permitting authority, for example, those entities with which consultation must be completed before authorizing a project.

Geographic Areas of Concern means those areas that present challenges or conflicts that could increase the time needed for the Federal government to evaluate the application if the route(s) are is sited through such areas (e.g., right-of-way avoidance areas identified through agency land management plans, National Historic Landmarks, traditional religious and cultural properties significant to Indian tribe(s), National Scenic and Historic Trails, National Wildlife Refuges, units of the National Park System, marine sanctuaries).

NEPA Lead Agency means the Federal agency, selected as provided for in this process pursuant to 40 CFR § 1501.5 to supervise the preparation of an environmental impact statement or an environmental assessment, as applicable, and to coordinate related Federal agency reviews.

Non-Federal Entities means Indian Tribes, multistate entities, and State and local government agencies with relevant expertise that may have jurisdiction within the Project Area, are responsible for conducting permitting and environmental reviews of the proposed project or attendant facilities, or have special expertise with respect to environmental and other issues pertinent to or that are potentially affected by the project or its attendant facilities. Non-Federal Entities include those with either permitting or non-permitting authority, for example those entities with whom consultation must be completed before authorizing a project.

Project Area means the geographic area to be considered when developing potential Study Corridors for environmental review and potential project siting. It is an area located between the two end points of the project (e.g., substations), including their immediate surroundings within at least one-quarter mile of that area, and over any proposed intermediate substations. The size of the Project Area should be sufficient to allow for the evaluation of potential alternative Routes with differing environmental, engineering, and regulatory constraints. Note that the Project Area does not necessarily coincide with “permit area,” “area of potential effect,” or “action area,” which are specific to types of regulatory review as determined by the NEPA Lead Agency or DOE in consultation with the Project Proponent.

Project Proponent means a person or entity who initiates the IIP Process in anticipation of seeking Federal Authorizations for a Qualifying Project.

Qualifying Projects means (1) (a) a non-marine high voltage transmission line (230 kV or above) and its attendant facilities or (b) a regionally or nationally significant non-marine transmission line and its attendant facilities, in which (2) all or part of the proposed transmission line is used for the transmission of electric energy in interstate commerce for sale at wholesale, and (3) all or part of the proposed transmission line (a) crosses jurisdictions administered by more than one Federal Entity or (b) crosses jurisdictions administered by a Federal Entity and is considered for Federal financial assistance from a Federal Entity. Qualifying Projects do not include those for which an application has been submitted to FERC for issuance of a permit for construction or modification of a transmission facility, or where a pre-filing procedure has been initiated, under section 216(b) of the Federal Power Act (16 U.S.C. 824p (b)) (transmission lines within a DOE-designated National Interest Electric Transmission Corridors).

Regional Mitigation Strategies means mitigation measures and a framework based on the results of regional, landscape or watershed-level analyses to directly compensate for project impacts.

Route means a linear area within which a transmission line could be sited. A route is usually several hundred feet wide. It should be wide enough to allow minor adjustments in the alignment of the transmission line so as to avoid sensitive features or accommodate potential engineering constraints but narrow enough to allow detailed study of the entire area.

Study Corridor means a contiguous area usually one mile to several miles wide within the Project Area where alternative Routes may be considered for further study.

Issued in Washington, DC, August 23, 2013.
Patricia A. Hoffman,
Assistant Secretary, Office of Electricity Delivery and Energy Reliability.

[FR Doc. 2013-21098 Filed 8-28-13; 8:45 a.m.]

BILLING CODE 6450-01-P